DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 70 FR 55859-55860, dated September 23, 2005) is amended to reflect the establishment of the Coordinating Office for Global Health at the Centers for Disease Control and Prevention.

Section C-B, Organization and Functions, is hereby amended as follows:

Delete in its entirety the title and functional statement for the Office of Global Health (CAB).

After the mission statement for the Coordinating Center for Infectious Diseases (CV), insert the following:

Coordinating Office for Global Health (CW). The mission of the Coordinating Office of Global Health (COGH) is to provide leadership and work with partners around the globe to: (1) Increase life expectancy and years of quality life, especially among those at highest risk for premature death, particularly vulnerable children and women, and (2) increase the global preparedness to prevent and control naturally-occurring and man-made threats to health. To carry out its mission, COGH (1) fosters collaborations, partnerships, integration, and resource leveraging to increase the Centers for Disease Control and Prevention's (CDC) health impact and achieve global health goals; (2) assesses evolving global health issues; (3) provides strategic direction to support CDC's global health activities; (4) identifies and develops activities where CDC's technical expertise maximizes public health impact; (5) stimulates research and program development by disseminating information acquired through ongoing global health initiatives; (6) strengthens global capacity in areas such as public health workforce and systems development; and (7) coordinates cross-cutting CDC global health activities.

Office of the Director (CWA). (1) Manages, directs, and coordinates the activities of the office; (2) provides global business management and strategic planning support to achieve its objectives with measurable results; (3) provides leadership in the formulation and implementation of CDC's global health strategy, and facilitates the development of strategic partnerships in support of the goals; (4) coordinates CDC's legislative agenda and activities related to global public health; (5) provides leadership in policy formation, program operations, strategic direction, and fiscal oversight; (6) administers CDC's global disease detection program through coordination with relevant implementing programs; (7) coordinates CDC's global science and public health practice activities; (8) formulates and implements CDC's strategy for global workforce and career development; and (9) coordinates global health communication issues across CDC.

Office of Capacity Development and Program Coordination (CWB). The Office of Capacity Development and Program Coordination provides agency-wide leadership and coordination to strengthen, assist, and facilitate the implementation of global programs through the Division of Epidemiology and Surveillance Capacity Development and the Sustainable Management Development Program.

Office of the Director (CWB1). (1) Provides leadership and overall direction for the office; (2) provides leadership and guidance on global health program coordination, policy, program planning, program management, operations, and monitoring; (3) provides liaison with other CDC coordinating centers/coordinating offices, national centers, other federal agencies, national ministries of health, and international organizations; and (4) strengthens global public health capacity in the areas of informatics, laboratory, science, program management, epidemiology, and surveillance.

Sustainable Management Development Program (CWB12). (1) Strengthens public health management training capacity by developing a global network of professional management trainers skilled in evidence-based decision-making; (2) conducts needs assessment/planning for the development of regional/national training programs; (3) provides leadership in faculty development in Atlanta; (4) provides or facilities in-country technical assistance for regional/national training programs; (5) provides or facilities support for evaluation and sustainability of management training programs; and (6) collaborates within CDC, and with other national or international-based organizations in support of the Sustainable Management Development Program's mission.

Division of Epidemiology and Surveillance Capacity Development (CWBB). (1) Contributes to improving the health of the people of the United States (U.S.) and other nations by partnering with other national agencies and international organizations to build strong, transparent, and sustained public health systems; assesses, develops, promotes, and strengthens public health systems through training, consultation, capacity building, and other assistance in applied epidemiology, public health surveillance, evaluation, instructional design, and other disciplines needed for health policy formulation, allocation of health resources, direction, and evaluation of public health program operations and effectiveness; (2) provides input into Office of Capacity Development and Program Coordination and COGH policy on health system strengthening and sustainability; and (3) collaborates with other CDC organizations, US government agencies, international agencies, foreign governments, and non-profit organizations in support of COGH's goals and activities.

Office of the Director (CWBB1). (1) Provides leadership and overall direction for the division; (2) provides leadership and guidance on policy, program planning, program management, and operations; (3) plans, allocates, and monitors resources; (4) provides leadership and management oversight in assisting national ministries of health, international agencies, and non-profit organizations in the delivery of epidemiologic services and the development of international epidemiologic networks; and (5) provides liaison with other CDC organizations, other federal agencies, national ministries of health, and international organizations.

Capacity Development Branch (CWBBC). (1) With partners, designs and conducts evidence-based instruction in public health disciplines needed to strengthen their public health systems, including instructional design, epidemiology, surveillance, communications, and economic evaluation; (2) provides consultation to ministries of health in development of surveillance systems (e.g. Integrated Disease Surveillance, injury, chronic diseases, infectious diseases, etc.); (3) creates and maintains computer-based and distance-based learning methods, and develops the capacity of partners to create, evaluate, and share their own; (4) develops and evaluates competency-based training materials; (5) maintains divisional training material library and website; and (6) collaborates within CDC and with other national or international-based organizations in development of competency-based training materials, evaluation of training, and design of surveillance systems needed to accomplish the mission.

Program Development Branch (CWBBC). (1) Assists partners to assess their needs for health systems strengthening; (2) plans, directs, supports, and coordinates field epidemiology and laboratory training programs, Data for Decision Making Projects, and other partnerships with ministries of health; (3) provides leadership and management oversight in assisting ministries of health in training of epidemiologists and other health professionals through the development of competency-based, residency-style, applied training programs; (4) provides leadership and expertise in assisting national ministries of health to utilize trained public health workers for developing health policy, and implementing and evaluating health programs; (5) assigns and manages expert consultants as long-term, in-country advisors to ministry of healthy programs; and (6) collaborates within CDC and with other national and international organizations in support of partner programs.

Office of Global Program Support Services (CWC). The Office of Global Program Support Services provides agency-wide leadership and support for assignments, systems, and operations in the implementing of the global health initiatives. The office's function will provide the foundation for the development and application of consistent and equitable assignments, systems, and operational policies.

Office of the Director (CWC1). (1) Advises the COGH Director on important issues related to assignments, systems, and operations for international activities impacting programmatic implementation; (2) serves as the focal point for CDC international assignees and travelers; (3) coordinates the operational support services for CDC programs; (4) coordinates and documents international management policy agency-wide with the Department of Health and Human Services and with the Department of State, ascertaining the need for, and proposing, administrative improvements and legislative requirements to improve operations and avoid management problems; (5) coordinates development of policies for overseas management, locally employed staff, and overseas travel; (6) provides government-wide leadership for the working group for the interagency system for management of shared administrative support services (ICASS), overseas building operations and rightsizing liaison, capital security cost sharing reconciliation, and property management (inventory, government-owned vehicles, property management, furniture, furnishing, appliances, equipment); (6) in carrying out the above responsibilities, coordinates activities with coordinating centers/offices/implementing programs, the Office of Global Health Affairs, other governmental and non-governmental organizations, and other partners, as appropriate; (7) administers exchange visitor program, short-term visitors, and immigration activities for CDE; (8) coordinates processes for all overseas staff assignments including family support; and (9) provides agency-wide passport, visa, and clearance services.

Dated: September 2, 2005.
William H. Gimson,
Chief Operating Officer, Centers for Disease Control and Prevention (CDC).

[FR Doc. 05-20058 Filed 10-5-05; 8:45 am]

BILLING CODE 4160-18-M